DEPARTMENT OF COMMERCE

National Oceanic and Atmospheric Administration

[RTID 0648-XE852]

Applications for Membership to the American Fisheries Advisory Committee

AGENCY: National Marine Fisheries Service (NMFS), National Oceanic and Atmospheric Administration (NOAA), Department of Commerce.

ACTION: Notice.

SUMMARY: Applications are being sought for appointment by the Secretary of Commerce (Secretary) for 7 membership positions to serve on the 22-member American Fisheries Advisory Committee (AFAC or Committee). Individuals selected to serve on the Committee will serve a term of three years, unless otherwise stipulated.

DATES: Applications must have an email date stamp on or before June 20, 2025.

ADDRESSES: Applications should be submitted by email to: nmfs.afac.nominations@noaa.gov, or by mail to: Clifford Cosgrove, American Fisheries Advisory Committee Designated Staff Member, NMFS Office of Management and Budget, 1315 East-West Highway, Rm #14413, Silver Spring, MD 20910.

FOR FURTHER INFORMATION CONTACT: Cliff Cosgrove, American Fisheries Advisory Committee Designated Staff Member, NMFS Office of Management and Budget, by email, at nmfs.afac.nominations@noaa.gov; or by phone at (301) 427-8736. Please visit the Saltonstall-Kennedy (S-K) Research and Development Program web page at: https://www.fisheries.noaa.gov/national/funding-financial-services/saltonstall-kennedy-research-and-development-program.

SUPPLEMENTARY INFORMATION: The Committee was created from Public Law (Pub. L.) 117-121 signed on May 12, 2022. The Committee currently meets no more than 3 times annually and membership is comprised of 22 individuals appointed by the Secretary with the following geographic representation:

• Region 1 consisting of Alaska, Hawaii, the Commonwealth of the Northern Mariana Islands, and the Territories of Guam and American Samoa;

• Region 2 consisting of Maine, New Hampshire, Massachusetts, Rhode Island, and Connecticut;

• Region 3 consisting of Texas, Alabama, Louisiana, Mississippi, Florida, Arkansas, Puerto Rico, and the Territory of the Virgin Islands of the United States;

• Region 4 consisting of California, Washington, Oregon, and Idaho;

• Region 5 consisting of New Jersey, New York, Delaware, Maryland, Virginia, North Carolina, South Carolina, and Georgia; and

• Region 6 consisting of Michigan, Minnesota, Wisconsin, Illinois, Indiana, Ohio, and Pennsylvania.

Membership for each region will be composed of highly qualified, diverse individuals with experience in one or more of the following areas of expertise, and in as many seafood species as possible: seafood harvesting or processing; recreational or commercial fishing; growing seafood; fisheries science; and/or food distribution, marketing, retail, or food service.

Four at-large members shall also be appointed by the Secretary as follows: one individual with experience in food distribution, marketing, retail, or food service; one individual with experience in the recreational fishing industry supply chain, such as fishers, manufacturers, retailers, and distributors; one individual with experience in the commercial fishing industry supply chain, such as fishers, manufacturers, retailers, and distributors; and one individual who is an employee of NMFS with expertise in fisheries research.

The Committee is responsible for making recommendations to the Secretary for financial assistance awards under the S-K Grant Competition under the Department of Commerce. The Committee will also make recommendations to the Secretary to assist in the development of the annual Notice of Funding Opportunities (NOFO) for submission to the S-K Grant Competition. This may include identifying the needs of the fishing communities (program priorities), establishing individual award funding limits, specifying the application review criteria and selection processes, and other sections of the NOFO as appropriate and allowable. Applicants for these seven membership positions must have demonstrable experience listed below in as many seafood species as possible from the specific AFAC fisheries regions as follows:

• Region 1, one individual with experience as a Recreational or Commercial Fisher and/or Experience Growing Seafood;

• Region 2, one individual with experience as a Seafood Harvester or Processor;

• Region 3, one individual with experience in the Fisheries Science Community or Relevant Fishery Management Council;

• Region 5, one individual with experience as a Seafood Harvester or Processor;

• Region 6, two positions, one individual with experience in the Fisheries Science Community or Relevant Fishery Management Council, one individual with experience as a Recreational or Commercial Fisher and/or Experience Growing Seafood;

• At-Large Region, one individual with experience in the recreational fishing industry supply chain such as fishermen, manufacturers, retailers, and distributors.

Members must be able to fulfill the time commitments required for up to two annual in-person meetings and one virtual meeting. The in-person meetings rotate between regions and last up to four business days, subject to the time needs of each meeting. The virtual meeting is one business day for approximately four hours.

Committee membership is voluntary and, except for reimbursable travel and related expenses per federal travel regulations, service is without compensation.

Each nominee must submit a cover letter and a resume/curriculum vitae (CV) in PDF format. The cover letter shall include a brief statement as to their interest in serving on the Committee and their qualifications. The resume/CV shall detail the applicant's contact information (address, telephone number, email address) and specific qualifications/experience/expertise as referenced in Public Law 117-121. Any applicants selected for Committee membership shall be required to complete a conflict of interest form. The first Committee meeting of members selected from this notice is scheduled for September 16 through September 19, 2025.

Applications must be submitted by email to nmfs.afac.nominations@noaa.gov, and must be received or email date stamped by June 20, to be considered. The full text of Public Law 117-121 and other relevant documents can be viewed on the Saltonstall-Kennedy web page at the following link: https://www.fisheries.noaa.gov/national/funding-financial-services/saltonstall-kennedy-research-and-development-program.

Dated: June 4, 2025.
Daniel A. Namur,
Financial Assistance Division Director, Management and Budget Office, National Marine Fisheries Service.

[FR Doc. 2025-10923 Filed 6-13-25; 8:45 am]

BILLING CODE 3510-22-P